DEPARTMENT OF COMMERCE

National Oceanic and Atmospheric Administration

[RTID 0648-XB299]

Marine Mammals; File No. 25786

AGENCY: National Marine Fisheries Service (NMFS), National Oceanic and Atmospheric Administration (NOAA), Commerce.

ACTION: Notice; receipt of application.

SUMMARY: Notice is hereby given that NMFS' Southwest Fisheries Science Center, 8901 La Jolla Shores Drive, La Jolla, CA 92037 (Responsible Party: George Watters, Ph.D.), has applied in due form for a permit to conduct research on six species of Antarctic pinnipeds.

DATES: Written, telefaxed, or email comments must be received on or before September 7, 2021.

ADDRESSES: The application and related documents are available for review by selecting “Records Open for Public Comment” from the “Features” box on the Applications and Permits for Protected Species (APPS) home page, https://apps.nmfs.noaa.gov, and then selecting File No. 25786 from the list of available applications. These documents are also available upon written request via email to NMFS.Pr1Comments@noaa.gov.

Written comments on this application should be submitted via email to NMFS.Pr1Comments@noaa.gov. Please include File No. 25786 in the subject line of the email comment.

Those individuals requesting a public hearing should submit a written request via email to NMFS.Pr1Comments@noaa.gov. The request should set forth the specific reasons why a hearing on this application would be appropriate.

FOR FURTHER INFORMATION CONTACT: Sara Young or Carrie Hubard, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to take 6 pinniped species in the Antarctic Peninsula region, primarily at Cape Shirreff, Livingston Island, as part of a long-term ecosystem monitoring and research program established in 1986. The six species are: Antarctic fur seals (Arctocephalus gazella), southern elephant seals (Mirounga leonina), crabeater seals (Lobodon carcinophaga), leopard seals (Hydrurga leptonyx), Ross seals (Ommatophoca rossii), and Weddell seals (Leptonychotes weddellii). The applicant also requests permission to import tissue samples collected from any animals captured and from salvaged carcasses of any species of pinniped or cetacean found in the study area.

The applicant requests annual capture of: 500 Antarctic fur seal adults and juveniles; 400 Antarctic fur seal pups; 30 leopard seal adults and juveniles; and 30 Weddell seal adults and juveniles. Research on captured animals would include drug administration, biological sampling, attachment of scientific instruments, application of marks (flipper tags, hair bleach or dye), morphometric measurement, and ultrasound. An additional 800 Antarctic fur seals, 40,000 southern elephant seals, 318,700 crabeater seals, 1,320 leopard seals, 30,200 Weddell seals, and 5,256 Ross seals would be taken annually by harassment during aerial and ground surveys, including behavioral observations, photo-identification, and use of unmanned aircraft systems. The applicant has requested an annual incidental mortality allowance of: Three Antarctic fur seal adults or juveniles; three Antarctic fur seal pups; two leopard seal adults or juveniles; and two Weddell seal adults or juveniles. The research would occur over five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 2, 2021.
Amy Sloan,
Acting Chief, Permits and Conservation Division, Office of Protected Resources, National Marine Fisheries Service.

[FR Doc. 2021-16744 Filed 8-4-21; 8:45 am]

BILLING CODE 3510-22-P